DEPARTMENT OF ENERGY

Federal Energy Regulatory Commission

Combined Notice of Filings #1

Take notice that the Commission received the following exempt wholesale generator filings:

Docket Numbers: EG21-99-000.

Applicants: Tumbleweed Solar LLC.

Description: Notice of Self-Certification of Exempt Wholesale Generator Status of Tumbleweed Solar LLC.

Filed Date: 3/3/21.

Accession Number: 20210303-5141.

Comments Due: 5 p.m. ET 3/24/21.

Take notice that the Commission received the following electric corporate filings:

Docket Numbers: EC21-61-000.

Applicants: Energy Power Investment Company, LLC.

Description: Application for Authorization Under Section 203 of the Federal Power Act of Energy Power Investment Company.

Filed Date: 3/2/21.

Accession Number: 20210302-5143.

Comments Due: 5 p.m. ET 3/23/21.

Take notice that the Commission received the following electric rate filings:

Docket Numbers: ER21-918-001.

Applicants: PJM Interconnection, L.L.C.

Description: Tariff Amendment: Errata to ISA/CSA, SA Nos. 5291 and 5312; Queue No. AC1-165 to be effective 1/28/2019.

Filed Date: 3/3/21.

Accession Number: 20210303-5131.

Comments Due: 5 p.m. ET 3/24/21.

Docket Numbers: ER21-1239-001.

Applicants: Gulf Power Company.

Description: Tariff Amendment: NITSA Effective Date Amendment to be effective 5/1/2021.

Filed Date: 3/3/21.

Accession Number: 20210303-5071.

Comments Due: 5 p.m. ET 3/24/21.

Docket Numbers: ER21-1243-001.

Applicants: PJM Interconnection, L.L.C.

Description: Tariff Amendment: Errata to Amendments to Price Responsive Demand Rules re Docket No. ER21-1243 to be effective 5/3/2021.

Filed Date: 3/2/21.

Accession Number: 20210302-5109.

Comments Due: 5 p.m. ET 3/23/21.

Docket Numbers: ER21-1252-000.

Applicants: Stonepeak Kestrel Energy Marketing LLC.

Description: § 205(d) Rate Filing: Normal filing 2021 to be effective 3/3/2021.

Filed Date: 3/2/21.

Accession Number: 20210302-5149.

Comments Due: 5 p.m. ET 3/23/21.

Docket Numbers: ER21-1253-000.

Applicants: Canal 3 Generating LLC.

Description: § 205(d) Rate Filing: Normal filing 2021 to be effective 3/3/2021.

Filed Date: 3/2/21.

Accession Number: 20210302-5154.

Comments Due: 5 p.m. ET 3/23/21.

Docket Numbers: ER21-1254-000.

Applicants: Genbright LLC.

Description: Baseline eTariff Filing: Application for Market-Based Rate Authorization, Request for Related Waivers to be effective 5/1/2021.

Filed Date: 3/2/21.

Accession Number: 20210302-5173.

Comments Due: 5 p.m. ET 3/23/21.

Docket Numbers: ER21-1255-000.

Applicants: Southwest Power Pool, Inc.

Description: § 205(d) Rate Filing: 3789 Flat Ridge 4 Wind GIA to be effective 2/24/2021.

Filed Date: 3/3/21.

Accession Number: 20210303-5027.

Comments Due: 5 p.m. ET 3/24/21.

Docket Numbers: ER21-1256-000.

Applicants: PJM Interconnection, L.L.C.

Description: § 205(d) Rate Filing: Original ISA, Service Agreement No. 5979; Queue No. AD2-085 to be effective 2/3/2021.

Filed Date: 3/3/21.

Accession Number: 20210303-5036.

Comments Due: 5 p.m. ET 3/24/21.

Docket Numbers: ER21-1257-000.

Applicants: Midcontinent Independent System Operator, Inc., American Transmission Company LLC.

Description: § 205(d) Rate Filing: 2021-03-01_SA 2773 ATC-Adams-Columbia 1st Rev CFA to be effective 5/3/2021.

Filed Date: 3/3/21.

Accession Number: 20210303-5059.

Comments Due: 5 p.m. ET 3/24/21.

Docket Numbers: ER21-1258-000.

Applicants: Midcontinent Independent System Operator, Inc., American Transmission Company LLC.

Description: § 205(d) Rate Filing: 2021-03-03_SA 2803 ATC-Badger Power Marketing Authority 1st Rev CFA to be effective 5/3/2021.

Filed Date: 3/3/21.

Accession Number: 20210303-5062.

Comments Due: 5 p.m. ET 3/24/21.

Docket Numbers: ER21-1259-000.

Applicants: Coso Battery Storage, LLC.

Description: Baseline eTariff Filing: Coso Battery Storage, LLC MBR Tariff to be effective 3/4/2021.

Filed Date: 3/3/21.

Accession Number: 20210303-5088.

Comments Due: 5 p.m. ET 3/24/21.

Docket Numbers: ER21-1260-000.

Applicants: Midcontinent Independent System Operator, Inc., American Transmission Company LLC.

Description: § 205(d) Rate Filing: 2021-03-03_ATCLLC Attachment O True-Up Procedures Filing to be effective 5/3/2021.

Filed Date: 3/3/21.

Accession Number: 20210303-5112.

Comments Due: 5 p.m. ET 3/24/21.

Docket Numbers: ER21-1261-000.

Applicants: Oneta Power, LLC.

Description: Emergency One-Time Limited Waiver, et al. of Oneta Power, LLC.

Filed Date: 3/2/21.

Accession Number: 20210302-5189.

Comments Due: 5 p.m. ET 3/4/21.

Docket Numbers: ER21-1262-000.

Applicants: Southwest Power Pool, Inc.

Description: § 205(d) Rate Filing: 3125R9 Basin Electric Power Cooperative NITSA and NOA to be effective 2/1/2021.

Filed Date: 3/3/21.

Accession Number: 20210303-5124.

Comments Due: 5 p.m. ET 3/24/21.

Docket Numbers: ER21-1263-000.

Applicants: Alabama Power Company.

Description: § 205(d) Rate Filing: PowerSouth NITSA Amendment (Add Exxon Credit provision) to be effective 2/1/2021.

Filed Date: 3/3/21.

Accession Number: 20210303-5132.

Comments Due: 5 p.m. ET 3/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2021.
Nathaniel J. Davis, Sr.,
Deputy Secretary.

[FR Doc. 2021-04837 Filed 3-8-21; 8:45 am]

BILLING CODE 6717-01-P